DEPARTMENT OF EDUCATION

Reopening; Applications for New Awards; Educational Technology, Media, and Materials for Individuals With Disabilities—Stepping-Up Technology Implementation

AGENCY: Office of Special Education and Rehabilitative Services, Department of Education.

ACTION: Notice.

SUMMARY: The Department of Education (Department) reopens the competition for fiscal year (FY) 2021, for certain prospective eligible applicants described elsewhere in this notice, under the Educational Technology, Media, and Materials for Individuals with Disabilities—Stepping-up Technology Implementation, Assistance Listing Number 84.327S. The Department takes this action to allow more time for the preparation and submission of applications by prospective eligible applicants affected by the severe winter weather in Louisiana, Oklahoma, and Texas.

DATES:

Deadline for Transmittal of Applications for Applicants Meeting the Eligibility Criteria in this Notice: March 8, 2021.

Deadline for Intergovernmental Review: May 5, 2021.

FOR FURTHER INFORMATION CONTACT: Terry Jackson, U.S. Department of Education, 400 Maryland Avenue SW, Room 5128, Potomac Center Plaza, Washington, DC 20202-5076. Telephone: (202) 245-6039. Email: Terry.Jackson@ed.gov.

If you use a telecommunications device for the deaf (TDD) or a text telephone (TTY), call the Federal Relay Service (FRS), toll free, at 1-800-877-8339.

SUPPLEMENTARY INFORMATION: On December 22, 2020, we published the notice inviting applications (NIA) for the FY 2021 Educational Technology, Media, and Materials for Individuals with Disabilities—Stepping-up Technology Implementation competition in the Federal Register (85 FR 83531). Under the NIA, applications were due on February 22, 2021.

We are reopening this competition for eligible applicants in affected areas in Louisiana, Oklahoma, and Texas to allow those applicants more time to prepare and submit their applications. For applicants that meet the eligibility criteria in this notice, we are reopening the competition until March 8, 2021. We are also extending the intergovernmental review deadline until May 5, 2021.

Eligibility: The reopening of the competition in this notice applies to eligible applicants under Educational Technology, Media, and Materials for Individuals with Disabilities—Stepping-up Technology Implementation, Assistance Listing Number 84.327S, that are located in an area for which the President has issued an emergency declaration (see www.fema.gov/disasters/), in Louisiana (FEMA Disaster designation 3556), Oklahoma (FEMA Disaster designation 3555), and Texas (FEMA Disaster designation 3554).

In accordance with the NIA, eligible applicants for this competition are limited to State educational agencies; local educational agencies (LEAs), including public charter schools that operate as LEAs under State law; institutions of higher education; other public agencies; private nonprofit organizations; freely associated States and outlying areas; Indian Tribes or Tribal organizations; and for-profit organizations.

Note: All information in the NIA for this competition remains the same, except for, with respect to eligible applicants, the deadline for the transmittal of applications and the deadline for intergovernmental review.

Program Authority: 20 U.S.C. 1474 and 1481.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs, Delegated the authority to perform the functions and duties of the Assistant Secretary for the Office of Special Education and Rehabilitative Services.

[FR Doc. 2021-04444 Filed 3-3-21; 8:45 am]

BILLING CODE 4000-01-P